DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Proposed Project: Division of State Programs—Management Reporting Tool (DSP-MRT)

(OMB No. 0930-0354)—Revision

The Substance Abuse and Mental Health Services Administration's (SAMHSA) Center for Substance Abuse Prevention (CSAP) aims to monitor several substance use prevention programs through the DSP-MRT, which reports data using the Strategic Prevention Framework (SPF). Programs monitored through the DSP-MRT include: SPF-Partnerships for Success (PFS), SPF- Prescription Drugs (Rx), Prescription Drug Overdose (PDO), and First Responder-Comprehensive Addiction and Recovery Act (FR-CARA). SAMHSA also proposed adding a new program: Sober Truth on Preventing Underage Drinking Act Grants (STOP Act). This request for data collection includes minor revisions from a previously approved OMB instrument.

Monitoring data using the SPF model will allow SAMHSA's project officers to systematically collect data to monitor their grant program. In addition to assessing activities related to the SPF steps, the performance monitoring instruments covered in this statement collect data to assess the following grantee required specific performance measures:

• Number of training and technical assistance activities per funded community provided by the grantee to support communities

• Reach of training and technical assistance activities (numbers served) provided by the grantee

• Percentage of subrecipient communities that submit data to the grantee data system

• Number of subrecipient communities that improved on one or more targeted National Outcome Measures

• Number of grantees who integrate Prescription Drug Monitoring Program data into their program needs assessment

• Number of naloxone toolkits distributed

Revisions to this package include the following:

• Inclusion of six performance targets

• Removal of outdated references

• Adjustments to the language in the Disparities Impact Section to refine response

Annualized Data Collection Burden
Instrument | Number of respondents | Responses per respondent | Total number of responses | Hours per response | Total burden hours | Average hourly wage | Total respondent cost ᵃ
DSP-MRT | 521 | 4 | 2,084 | 3 | 6,252 | $44.19 | $276,276
PFS Supplemental | 253 | 1 | 253 | 1 | 253 | 44.19 | 11,180
PDO/FR CARA Supplemental | 109 | 2 | 218 | 1 | 218 | 44.19 | 9,633
SPF Rx Supplemental | 26 | 4 | 104 | 1 | 104 | 44.19 | 4,596
STOP Act Supplemental | 133 | 1 | 133 | 1 | 133 | 44.19 | 5,877
FY2021-FY2024 Total | 521 |  |  |  | 6,960 |  | 307,562

Written comments and recommendations for the proposed information collection should be sent within 30 days of publication of this notice to www.reginfo.gov/public/do/PRAMain. Find this particular information collection by selecting “Currently under 30-day Review—Open for Public Comments” or by using the search function.

Carlos Graham,
Social Science Analyst.

[FR Doc. 2021-20608 Filed 9-22-21; 8:45 am]

BILLING CODE 4162-20-P